DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period February 22, 2003-March 19, 2003
Firm name | Address | Date petition accepted | Product
SORB Technology, Inc | 3631 SW 54th Street, Oklahoma City, OK 73119 | 02/25/03 | Medical parts and accessories for hemodialysis i.e., cartridges, blood tubing sets and dialysates.
Turnkey Technologies, Inc | 4650-A East Second Street, Benicia, CA 94510 | 02/26/03 | Part of measuring apparatus for checking voltage, current and resistance.
City Machine Tool & Die Co., Inc | 1302 E. Washington Street, Muncie, IN 47307 | 02/26/03 | Fixtures for metalworking machine tools.
R. C. Tooling, Inc | 1370A Pullman Drive, El Paso, TX 79936 | 02/27/03 | Tool and die fabrication molds.
Controls Components, Ltd | 19722 E. Admiral Place, Catoosa, OK 74015 | 03/03/03 | Metal fabrication and parts of valves.
Hill Manufacturing, Inc | 809 South 12th Street, Broker Arrow, OK 74012 | 03/03/03 | Oil and Gas field machinery and parts.
Fiorini Ranch | 15472 West Lombardy Avenue, Turlock, CA 95380 | 03/03/03 | Grapes, peaches and almonds.
Sunset Mold, LLC | 727 Commercie Drive, Venice, FL 34292 | 03/04/03 | Injection molds for Drive rubber and plastic.
Security Locknut, Inc | 9650 West Foster Avenue, Chicago, IL 60656 | 03/06/03 | Locking lugnut fasteners.
OMSAC, Inc dba Newstripe, Inc | 1700 Jasper Street, Aurora, CO 80011 | 03/07/03 | Marking and stripping equipment (dispensers & sprayers), stencils, industrial compactors and parts and accessories and field maintenance equipment.
Paramount Machine Co., Inc | 10824 Edison Court, Rancho Cucamonga, CA 91730 | 03/07/03 | Hydraulic parts for aircraft—landing gear, actuator flaps, and rear stabilizers.
Pentz Design Pattern & Foundry, Inc | 14823 Main Street NE., Duvall, WA 98019 | 03/08/03 | Castings and molds for various industries—electronics, telecommunications, and automotive.
Ivan Kosbruk | 7811 Kiana Circle, Anchorage, AK 99507 | 03/13/03 | Salmon.
W. G. Strohwig Tool & Die Company | 3285 Industrial Road, Richfield, WI 53076 | 03/19/03 | Injection molds for plastics.
Woodbine Alaska Fish Co | P.O. Box 757, Rio Vista, CA 94571 | 03/19/03 | Salmon.
Denman & Davis | 1 Broad Street, Clifton, NJ 07015 | 03/19/03 | Stainless steel and hot rolled carbon steel plates used in the dry cleaning and food industry.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

(The Catalog of Federal Domestic Assistance official program number and title of the program under which these petitions are submitted is 11.313, Trade Adjustment Assistance.)
Dated: March 20, 2003.
Anthony J. Meyer,
Coordinator, Trade Adjustment and Technical Assistance.

[FR Doc. 03-7317 Filed 3-26-03; 8:45 am]

BILLING CODE 3510-24-P